DEPARTMENT OF HOMELAND SECURITY

Coast Guard

33 CFR Part 117

[Docket No. USCG-2010-0972]

RIN 1625-AA09

Drawbridge Operation Regulations; Bayou Liberty, Mile 2.0, St. Tammany Parish, Slidell, LA

AGENCY: Coast Guard, DHS.

ACTION: Proposed rule; withdrawal.

SUMMARY: The Coast Guard is withdrawing its proposed rule concerning the regulation governing the operation of the SR 433 Bridge over Bayou Liberty, mile 2.0, St. Tammany Parish, Slidell, LA. The Louisiana Department of Transportation and Development (the bridge owner) proposed a change in the operating schedule to reduce the hours of manned operation of the bridge to make more efficient use of personnel and operating resources. Based on public comments expressing concern with the impact the proposed changes would have on public access to the waterway, the bridge owner no longer desires to move forward with the proposed rule.

DATES: The notice of proposed rulemaking is withdrawn on December 21, 2011.

ADDRESSES: The docket for this withdrawn rulemaking is available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, inserting USCG-2010-0972 in the “Keyword” box and then clicking “Search”.

FOR FURTHER INFORMATION CONTACT: If you have questions on this notice, call or email Jim Wetherington, Bridge Administration Branch, Eighth Coast Guard District; telephone (504) 671-2128, email james.r.wetherington@uscg.mil. If you have questions on viewing material in the docket, call Renee V. Wright, Program Manager, Docket Operations, telephone (202) 366-9826.

SUPPLEMENTARY INFORMATION:

Background

On November 22, 2010, we published a Notice of Proposed Rulemaking (NPRM) entitled “Drawbridge Operation Regulations; Bayou Liberty, mile 2.0, St. Tammany Parish, Slidell, LA.” in the Federal Register (75 FR 71061). The NPRM concerned the change to the operating schedule for the State Route 433 (SR 433) pontoon span bridge across Liberty Bayou, mile 2.0, at Slidell, St. Tammany Parish, Louisiana. The NPRM provided for an opening upon two-hour notice, allowing the Louisiana Department of Transportation and Development, owner of the bridge, to reduce the hours of manned operation of the bridge in order to make more efficient use of personnel and operating resources. This notice met with public concern over access and property values. On July 20, 2011, we published a Supplemental Notice of Proposed Rulemaking (SNPRM) entitled “Drawbridge Operation Regulations; Bayou Liberty, mile 2.0, St. Tammany Parish, Slidell, LA.” in the Federal Register (76 FR 43226). The SNPRM concerned the change to the operating schedule for the State Route 433 (SR 433) pontoon span bridge across Liberty Bayou, mile 2.0, at Slidell, St. Tammany Parish, Louisiana. The SNPRM provided for an opening upon one-hour notice from 7 a.m. to 7 p.m., allowing the Louisiana Department of Transportation and Development, owner of the bridge, to reduce the hours of manned operation of the bridge in order to make more efficient use of personnel and operating resources.

Withdrawal

Due to the negative feedback from the waterway users and the general public as well as the financial pressure mitigating these concerns would cause, the bridge owner has decided to maintain the current operating schedule. Therefore, we withdraw our proposed change to the existing notification requirements within this regulation.

Authority

This action is taken under the authority of 33 U.S.C. 499; 33 CFR 1.05-1; Department of Homeland Security Delegation No. 0170.1.

Dated: November 21, 2011.
Roy A. Nash,
Rear Admiral, U.S. Coast Guard, Commander, Eighth Coast Guard District.

[FR Doc. 2011-32631 Filed 12-20-11; 8:45 am]

BILLING CODE 9110-04-P